ENVIRONMENTAL PROTECTION AGENCY

40 CFR Part 52

[EPA-R10-OAR-2014-0744; FRL-9927-45-Region 10]

Approval and Promulgation of Implementation Plans; Washington: Infrastructure Requirements for the Fine Particulate Matter National Ambient Air Quality Standards

AGENCY: Environmental Protection Agency (EPA).

ACTION: Final rule.

SUMMARY: The Environmental Protection Agency (EPA) is partially approving and partially disapproving the State Implementation Plan (SIP) submittal from Washington demonstrating that the SIP meets the infrastructure requirements of the Clean Air Act (CAA) for the National Ambient Air Quality Standards (NAAQS) promulgated for fine particulate matter (PM2.5) on July 18, 1997, October 17, 2006, and December 14, 2012 (collectively, the PM2.5 NAAQS). The CAA requires that each state, after a new or revised NAAQS is promulgated, review its SIP to ensure that it meets the infrastructure requirements necessary to implement the new or revised NAAQS. On September 22, 2014, Washington made a SIP submission to establish that the Washington SIP meets the infrastructure requirements of the CAA for the PM2.5 NAAQS, except for certain elements related to the Prevention of Significant Deterioration (PSD) permitting program currently addressed under a Federal Implementation Plan (FIP), certain elements of the regional haze program currently addressed under a FIP, and specific requirements related to interstate transport which the State will address in a separate submittal. The EPA has determined that Washington's SIP is adequate for purposes of the infrastructure SIP requirements of the CAA for the PM2.5 NAAQS, with the exceptions noted above. The SIP deficiencies related to PSD permitting and regional haze, however, have already been adequately addressed by the existing EPA FIPs and, therefore, no further action is required by Washington or the EPA for those elements. The EPA will address the remaining interstate transport requirements in a separate action.

DATES: This final rule is effective June 11, 2015.

ADDRESSES: The EPA has established a docket for this action under Docket ID No. EPA-R10-OAR-2014-0744. All documents in the docket are listed on the www.regulations.gov Web site. Although listed in the index, some information is not publicly available, e.g., Confidential Business Information (CBI) or other information the disclosure of which is restricted by statute. Certain other material, such as copyrighted material, is not placed on the Internet and will be publicly available only in hard copy form. Publicly available docket materials are available either electronically through www.regulations.gov or in hard copy at the Air Programs Unit, Office of Air Waste and Toxics, EPA Region 10, 1200 Sixth Avenue, Seattle, WA 98101. The EPA requests that if at all possible, you contact the individual listed in the FOR FURTHER INFORMATION CONTACT section to view the hard copy of the docket. You may view the hard copy of the docket Monday through Friday, 8:00 a.m. to 4:00 p.m., excluding Federal holidays.

FOR FURTHER INFORMATION CONTACT: For information please contact Jeff Hunt at (206) 553-0256, hunt.jeff@epa.gov, or by using the above EPA, Region 10 address.

SUPPLEMENTARY INFORMATION:

Definitions

For the purpose of this document, we are giving meaning to certain words or initials as follows:

(i) The words or initials “Act” or “CAA” mean or refer to the Clean Air Act, unless the context indicates otherwise.

(ii) The words “EPA”, “we”, “us” or “our” mean or refer to the United States Environmental Protection Agency.

(iii) The initials “SIP” mean or refer to State Implementation Plan.

(iv) The words “Washington” and “State” mean the State of Washington.

Table of Contents

I. Background Information

II. Response to Comments

III. Final Action

IV. Incorporation by Reference

V. Statutory and Executive Orders Review

I. Background Information

On July 18, 1997, the EPA promulgated a new 24-hour and a new annual NAAQS for PM2.5 (62 FR 38652). On October 17, 2006, the EPA revised the standards for PM2.5, tightening the 24-hour PM2.5 standard from 65 micrograms per cubic meter (µ/m³) to 35 µ/m³, and retaining the annual PM2.5 standard at 15 µ/m³ (71 FR 61144). Subsequently, on December 14, 2012, the EPA revised the level of the health based (primary) annual PM2.5 standard to 12 µ/m³ (78 FR 3086, published January 15, 2013).¹

¹ In the EPA's 2012 PM2.5 NAAQS revision, we left unchanged the existing welfare (secondary) standards for PM2.5 to address PM-related effects such as visibility impairment, ecological effects, damage to materials and climate impacts. This includes an annual secondary standard of 15.0 μg/m³ and a 24-hour standard of 35 μg/m³.

States must make SIP submissions meeting the requirements of CAA sections 110(a)(1) and (2) within three years after promulgation of a new or revised standard. CAA sections 110(a)(1) and (2) require states to address basic SIP requirements, including emissions inventories, monitoring, and modeling to implement, maintain, and enforce the standards, so-called “infrastructure” requirements. To help states meet this statutory requirement, the EPA issued guidance to states. On October 2, 2007, the EPA issued guidance to address infrastructure SIP elements for the 1997 ozone and 1997 PM2.5 NAAQS.² Subsequently, on September 25, 2009, the EPA issued guidance to address SIP infrastructure elements for the 2006 24-hour PM2.5 NAAQS.³ Finally, on September 13, 2013, the EPA issued guidance to address infrastructure SIP elements generally for all NAAQS, including the 2012 PM2.5 NAAQS.⁴ As noted in the guidance documents, to the extent an existing SIP already meets the applicable CAA section 110(a)(2) requirements, states may make a SIP submission to EPA certifying how the existing SIP meets applicable requirements. On September 22, 2014, Washington made a submittal to the EPA certifying that the current Washington SIP meets the CAA section 110(a)(1) and (2) infrastructure requirements for the PM2.5 NAAQS, except for certain requirements related to PSD permitting, regional haze, and interstate transport described in the proposal for this action (79 FR 62368, October 17, 2014).⁵

² William T. Harnett, Director, Air Quality Policy Division, Office of Air Quality Planning and Standards. “Guidance on SIP Elements Required Under Sections 110(a)(1) and (2) for the 1997 8-hour Ozone and PM2.5 National Ambient Air Quality Standards.” Memorandum to EPA Air Division Directors, Regions I-X, October 2, 2007.

³ William T. Harnett, Director, Air Quality Policy Division, Office of Air Quality Planning and Standards. “Guidance on SIP Elements Required Under Sections 110(a)(1) and (2) for the 2006 24-hour Fine Particle (PM2.5) National Ambient Air Quality Standards (NAAQS).” Memorandum to Regional Air Division Directors, Regions I-X, September 25, 2009.

⁴ Stephen D. Page, Director, Office of Air Quality Planning and Standards. “Guidance on Infrastructure State Implementation Plan (SIP) Elements under Clean Air Act Sections 110(a)(1) and 110(a)(2).” Memorandum to EPA Air Division Directors, Regions 1-10, September 13, 2013.

⁵ Following the EPA's October 17, 2014 proposed action the CAA section 110(a)(1) and (2) infrastructure requirements for the PM2.5 NAAQS, the EPA subsequently proposed to partially approve Washington's PSD permitting program while retaining a FIP for certain facilities, emission categories, and geographic areas (80 FR 838, January 7, 2015). The EPA's action on Washington's PSD SIP submission does not affect the findings of this final infrastructure action because a FIP or partial FIP for PSD continues to remain in place.

II. Response to Comments

The EPA received two sets of comments on our proposal.

Commenter #1: The commenter raised several issues related to wood smoke. First, the commenter thanked the EPA for our involvement in addressing wood smoke health risks in Washington State. Second, the commenter expressed disappointment with the Washington State Legislature for not taking seriously the toxicity and multiple health hazards of wood smoke. Third, the commenter requested that the EPA establish filtration controls on wood smoke emissions from restaurants and food trucks, such as pizza and barbeque establishments. Fourth, the commenter noted several apartment buildings in the Seattle area that have uncertified wood burning devices and requested a date for removal or upgrade of the existing devices.

Response #1: The EPA appreciates the commenter's general concerns with respect to wood smoke. However, the commenter raises issues that are outside the scope of an action related to infrastructure SIP requirements. In this context, the EPA is merely evaluating the State's September 22, 2014, submission intended to establish that the Washington SIP meets the basic infrastructure requirements of the CAA for the PM2.5 NAAQS. In this final action, the EPA is determining that the State has met those requirements, except for certain elements related to the PSD and regional haze FIPs, and specific requirements related to interstate transport which the state will address in a separate submission. The points raised, and requests made, by the commenter are thus not germane to this specific rulemaking action.

The EPA notes that there have been improvements related to wood smoke in Washington through other substantive actions. The EPA's involvement in addressing wood smoke health risks in SIP provisions is driven by our CAA statutory authorities and responsibilities. Under CAA section 109, the EPA sets NAAQS for six criteria pollutants, including particulate matter. These NAAQS are set using the best available scientific and health studies, with a focus on protecting sensitive populations such as asthmatics, children, and the elderly (78 FR 3086, January 15, 2013). Under part D of the CAA, Plan Requirements for Nonattainment Areas, the states have an obligation to develop and submit SIP provisions that provide for attainment and maintenance of the NAAQS in designated nonattainment areas. The EPA has the authority and responsibility to review this type of SIP submission to assure that they meet applicable statutory and regulatory requirements. Through this process, the EPA recently worked with the Washington Department of Ecology (Ecology) and Puget Sound Clean Air Agency (PSCAA) to address PM2.5 nonattainment in the Tacoma area (74 FR 58688, November 13, 2009). This resulted in more stringent statutory and regulatory provisions related to residential wood stoves at both the local level (78 FR 32131, May 29, 2013) and the state level (79 FR 26628, May 9, 2014). Currently all areas in Washington State are meeting the NAAQS, including the Tacoma area (77 FR 53772, September 4, 2012).

The commenter also requested EPA intervention in regulating wood smoke emissions from restaurants and food trucks, such as pizza and barbeque retail establishments. Currently the EPA has not promulgated Federal emission limitations or control technologies specific to food preparation at restaurants and other retail food establishments; nor is the EPA seeking comment on this issue at this time. If necessary for purposes of attainment and maintenance of the NAAQS, it may be necessary for states to control emissions from such sources in SIP provisions. However, the EPA would typically expect such actions to occur in the context of the nonattainment plan requirements of CAA sections 172 and 189 rather than the general infrastructure provisions of CAA section 110. Given that all areas in Washington State are currently attaining the PM2.5 NAAQS, however, there appears to be no need for such regulations for these sources at this time. To the extent that particulate matter emissions from retail food establishments could trigger air permitting obligations, these would be addressed under the EPA's requirements for state minor source permitting programs under 40 CFR 51.160 through 51.164 (larger commercial or industrial food preparation facilities could be subject to other air permitting requirements). The EPA's minor source permitting requirements generally give states and local authorities discretion to regulate sources in ways that most effectively address pollution problems in that area. In the case of PSCAA, with jurisdiction in the Seattle area, the EPA approved minor source permitting rules that exclude “restaurants and other retail food-preparing establishments” under PSCAA Regulation I—section 6.03(b)(13).⁶ To the extent that restaurants and food trucks may violate other regulatory provisions of the SIP, such as the EPA-approved opacity limits of PSCAA Regulation I—section 9.03, the EPA provides a citizen hotline for possible Federal oversight and enforcement.⁷

⁶ http://yosemite.epa.gov/r10/airpage.nsf/15f53e4f3ac23a8088256b6e00039415/df888e71a7de53a388257bef0077c3b8!OpenDocument.

⁷ http://www2.epa.gov/enforcement/report-environmental-violations.

Lastly, the commenter alleged that nearby Seattle apartment buildings are using uncertified wood burning devices and requested that a date be set for removal or upgrade of the devices. This comment is also one that falls outside of the scope of the current action, where the EPA is finalizing its determination that Washington's SIP satisfies the infrastructure requirements of CAA section 110(a)(2) (A), (B), (C)—except for those elements covered by the PSD FIP, (D)(i)(II) (prong 4)—except for those elements covered by the regional haze FIP, (D)(ii)—except for those elements covered by the PSD FIP, (E), (F), (G), (H), (J)—except for those elements covered by the PSD FIP, (K), (L), and (M). Additionally, Federal action is being taken separately to address emissions from wood burning stoves. On March 16, 2015, the EPA finalized updated Federal standards for residential wood burning devices.⁸ The EPA's final rulemaking explicitly stated that it would not ban the use of uncertified devices that are already in existing homes. In this respect, Washington's statutes and regulations are already more stringent than the Federal requirements. Under Washington Administrative Code (WAC) 173-433-155 Criteria for Prohibiting Solid Fuel Burning Devices that are not Certified, Ecology or a local clean air agency may prohibit uncertified solid fuel burning devices in a nonattainment area or an area with an approved PM2.5 maintenance plan, if certain criteria are met. Beginning in 2015, this provision will apply to the Tacoma PM2.5 area as a maintenance plan requirement.⁹ However the commenter's request to expand the ban on uncertified solid fuel devices in other geographic areas of the State is outside the scope of this current rulemaking action which is limited to the consideration of the adequacy of Washington's SIP submission with respect to the infrastructure requirements of the CAA.

⁸ Standards of Performance for New Residential Wood Heaters, New Residential Hydronic Heaters and Forced-Air Furnaces, and New Residential Masonry Heaters (80 FR 13672, March 16, 2015).

⁹ Approval and Promulgation of Air Quality Implementation Plans; Washington; Redesignation to Attainment for the Tacoma-Pierce County Nonattainment Area and Approval of Associated Maintenance Plan for the 2006 24-Hour Fine Particulate Matter Standard (80 FR 7347, February 10, 2015).

Commenter #2: The commenter states that the EPA cannot approve Washington's infrastructure SIP submission with respect to CAA section 110(a)(2)(G) because the emergency episode plan (contingency plan) contained in WAC 173-435 does not specify a significant harm level or action levels for PM2.5. The commenter also states that the sampling procedures, equipment, and methods contained in the contingency plan (WAC 173-435-070) were written with coarse particulate (PM10) in mind and need to be updated to reflect PM2.5. Lastly, the commenter notes that Washington's contingency plan provisions contain no significant harm level or updated sampling, monitoring, and equipment provisions for lead (Pb).

Response #2: The EPA's September 2013 infrastructure guidance (2013 guidance) makes recommendations to states for how to meet the two requirements of section 110(a)(2)(G): (the requirement to have state emergency episode authority comparable to CAA section 303, and the requirement to have an adequate contingency plan for the NAAQS at issue). With respect to the first requirement, the EPA recommended that “[t]o meet Element G requirements, the best practice for an air agency submitting an infrastructure SIP would be to submit . . . the statutory or regulatory provision that provides the air agency or official with authority comparable to that of the EPA Administrator under section 303 . . . along with a narrative explanation of how they meet the requirements of this element.” With respect to the second requirement, the EPA recommended that “[t]he air agency is also required to submit, for approval into the SIP, an adequate contingency plan to implement the air agency's emergency episode authority. This can be met by submitting a contingency plan that meets the applicable requirements of 40 CFR part 51, subpart H (40 CFR 51.150 through 51.153) (“Prevention of Air Pollution Emergency Episodes”) for the relevant NAAQS if the NAAQS is covered by those regulations.”

The regulations at 40 CFR part 51, subpart H do not address PM2.5 specifically and do not identify a significant harm level or priority classification levels for PM2.5. However, the EPA has recommended to states, through the September 25, 2009 guidance, which remains in effect and is referenced in the 2013 guidance, that states only need to develop contingency plans for any area that has monitored and recorded 24-hour PM2.5 levels greater than 140.4 ug/m³ since 2006. The EPA has evaluated PM2.5 regulatory monitoring data in the State of Washington since 2006 and we have confirmed that no values greater than 140.4 ug/m³ have been recorded. Please see Monitoring Report in the docket for this action.¹⁰ In the absence of a significant harm level and classification levels for PM2.5 the 2013 guidance states, “the EPA believes that the central components of a contingency plan would be to reduce emissions from the source(s) at issue (if necessary by curtailing operations of . . . PM2.5 sources) and public communication as needed.” We believe that, based on our guidance, Washington's general regulatory authority under WAC 173-435 and statutory authority under Revised Code of Washington (RCW) 70.94.710 through 70.94.730, which restrain any source from causing or contributing to an imminent and substantial endangerment, are comparable to CAA section 303. The adequacy of these authorities (including the sampling, equipment, and methods provision identified by the commenter) were evaluated as part of the proposed action, and we find that they are sufficient to meet the requirements of CAA section 110(a)(2)(G) for the PM2.5 NAAQS.

¹⁰ 205_supporting materials_AMP 350MX 88101 WA 2006-13 14Nov14

We note that this action does not address CAA section 110(a)(2)(G) for the 2008 Pb NAAQS. Accordingly, the comment regarding Pb is outside the scope of this action. The EPA previously took final action to approve the Washington SIP for Pb infrastructure requirements on July 23, 2014 (79 FR 42683). In that action, we relied on the EPA's guidance that, with respect to lead, “[i]f a state believes, based on its inventory of lead sources and historic ambient monitoring data, that it does not need a more specific contingency plan beyond having authority to restrain any source from causing or contributing to an imminent and substantial endangerment, then the state could provide such a detailed rationale in place of a specific contingency plan.” ¹¹ For Washington, there were no facilities that emitted lead at the emissions inventory thresholds, therefore the EPA accepted Washington's demonstration that there was not a need for more specific contingency planning beyond having general authority to restrain sources comparable to CAA section 303. The EPA made this final determination on July 23, 2014, and therefore the comment on this issue is not timely for consideration regarding the Washington Pb SIP, nor relevant to this action which is limited in scope to the PM2.5 NAAQS. EPA is not reopening this issue by responding to this commenter concerning the Pb NAAQS, and is merely providing this response for informational purposes.

¹¹ Stephen D. Page, Director, Office of Air Quality Planning and Standards. “Guidance on Infrastructure State Implementation Plan (SIP) Elements Required under Clean Air Act Sections 110(a)(1) and 110(a)(2) for the 2008 Lead (Pb) National Ambient Air Quality Standards (NAAQS)” Memorandum to EPA Air Division Directors, Regions 1-10, October 14, 2011.

We are finalizing our approval of the Washington SIP for purposes of CAA section 110(a)(2)(G) for the 1997, 2006 and 2012 PM2.5 NAAQS.

III. Final Action

The EPA is partially approving and partially disapproving the September 22, 2014, infrastructure SIP submittal from Washington demonstrating that the SIP meets the applicable requirements of CAA sections 110(a)(1) and (2) for the PM2.5 NAAQS promulgated in 1997, 2006, and 2012. Specifically, we have determined that the current EPA-approved Washington SIP meets the following CAA section 110(a)(2) infrastructure elements for the 1997, 2006 and 2012 PM2.5 NAAQS: (A), (B), (C)—except for those elements covered by the PSD FIP, (D)(i)(II) (prong 4)—except for those elements covered by the regional haze FIP, (D)(ii)—except for those elements covered by the PSD FIP, (E), (F), (G), (H), (J)—except for those elements covered by the PSD FIP, (K), (L), and (M). We are also finalizing our inclusion of WAC 173-400-111(3)(i) in the SIP with respect to the CAA section 110(a)(2)(L) permit fee requirements, as described in the proposal for this action. Also, as discussed in the proposal for this action, the EPA anticipates that there would be no additional consequences to Washington or to sources in the State resulting from the partial disapproval of portions of the infrastructure SIP submission because there are already PSD and regional haze FIPs in place to address those infrastructure SIP requirements. The EPA likewise anticipates no additional FIP responsibilities for PSD and regional haze as a result of this partial disapproval. Interstate transport requirements with respect to CAA section 110(a)(2)(D)(i)(I) for the 2006 and 2012 PM2.5 NAAQS will be addressed in a separate action.

IV. Incorporation by Reference

As discussed in the proposal for this action, the State requested that the EPA revise our incorporation by reference of WAC 173-400-111(3)(i) in the SIP to include the text that “[a]ll fees required under chapter 173-455 WAC (or the applicable new source review fee table of the local air pollution control authority) have been paid.” This minor change to the incorporation by reference of the SIP was made to ensure that all infrastructure requirements under CAA section 110(a)(2)(L) are met. In accordance with requirements of 1 CFR 51.5, the EPA is finalizing the incorporation by reference of the Washington Department of Ecology regulations contained in WAC 173-400-111. The EPA has made, and will continue to make, these documents generally available electronically through www.regulations.gov and/or in hard copy at the appropriate EPA office (see the ADDRESSES section of this preamble for more information).

V. Statutory and Executive Orders Review

Under the CAA, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

The SIP is not approved to apply on any Indian reservation land in Washington except as specifically noted below and is also not approved to apply in any other area where the EPA or an Indian tribe has demonstrated that a tribe has jurisdiction. In those areas of Indian country, the rule does not have tribal implications as specified by Executive Order 13175 (65 FR 67249, November 9, 2000), nor will it impose substantial direct costs on tribal governments or preempt tribal law. Washington's SIP is approved to apply on non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area. Consistent with EPA policy, the EPA provided a consultation opportunity to the Puyallup Tribe in a letter dated September 3, 2013. The EPA did not receive a request for consultation.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 13, 2015. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: April 28, 2015.
Dennis J. McLerran,
Regional Administrator, Region 10.

For the reasons set forth in the preamble, 40 CFR part 52 is amended as follows:

PART 52—APPROVAL AND PROMULGATION OF IMPLEMENTATION PLANS

1. The authority citation for Part 52 continues to read as follows:

Authority: 42 U.S.C. 7401 et seq.

Subpart WW—Washington

2. Section 52.2470 is amended by:

a. In Table 2—Additional Regulations Approved for Washington Department of Ecology (Ecology) Direct Jurisdiction, revising paragraph (c) entry 173-400-111;

b. In Table 2—Attainment, Maintenance, and Other Plans for “110(a)(2) Infrastructure Requirements—1997, 2006, and 2012 Fine Particulate Matter (PM2.5) Standards”, adding to paragraph (e) an entry at the end of the section with the undesignated center heading “110(a)(2) Infrastructure and Interstate Transport.”

The revision and addition read as follows:

§ 52.2470 Identification of plan.

* * * * *

(c) * * *

Table 2—Additional Regulations Approved for Washington Department of Ecology (Ecology) Direct Jurisdiction
[Applicable in Adams, Asotin, Chelan, Columbia, Douglas, Ferry, Franklin, Garfield, Grant, Kittitas, Klickitat, Lincoln, Okanogan, Pend Oreille, San Juan, Stevens, Walla Walla, and Whitman counties, excluding facilities subject to Energy Facilities Site Evaluation Council (EFSEC) jurisdiction, Indian reservations (excluding non-trust land within the exterior boundaries of the Puyallup Indian Reservation), and any other area where the EPA or an Indian tribe has demonstrated that a tribe has jurisdiction. These regulations also apply statewide for facilities subject to the applicability sections of WAC 173-400-700, WAC 173-405-012, WAC 173-410-012, and WAC 173-415-012]
State citation | Title/subject | State effective date | EPA approval date | Explanations
* * * * * * *
Washington Administrative Code, Chapter 173-400—General Regulations for Air Pollution Sources
173-400-111 | Processing Notice of Construction Applications for Sources, Stationary Sources and Portable Sources | 12/29/12 | 5/12/15 [Insert Federal Register citation] | Except: 173-400-111(3)(h); The part of 173-400-111(8)(a)(v) that says, • “and 173-460-040,”; 173-400-111(9).
* * * * * * *

* * * * *

(e) * * *

Table 2—Attainment, Maintenance, and Other Plans
Name of SIP provision | Applicable geographic or nonattainment area | State submittal date | EPA approval date | Comments
* * * * * * *
110(a)(2) Infrastructure and Interstate Transport
* * * * * * *
110(a)(2) Infrastructure Requirements—1997, 2006, and 2012 Fine Particulate Matter (PM2.5) Standards | Statewide | 9/22/14 | 5/12/15 [Insert Federal Register citation] | This action addresses the following CAA elements: 110(a)(2)(A), (B), (C), (D)(i)(II), (D)(ii), (E), (F), (G), (H), (J), (K), (L), and (M).
* * * * * * *

* * * * *

[FR Doc. 2015-11343 Filed 5-11-15; 8:45 am]

BILLING CODE 6560-50-P